MERIT SYSTEMS PROTECTION BOARD

Membership of the Merit Systems Protection Board's Performance Review Board

AGENCY: Merit Systems Protection Board.

ACTION: Notice.

SUMMARY: Notice is hereby given of the members of the Merit Systems Protection Board's Performance Review Board.

DATES: March 17, 2011.

FOR FURTHER INFORMATION CONTACT: Marion Hines, 202-254-4413.

SUPPLEMENTARY INFORMATION: The Merit Systems Protection Board is publishing the names of the new and current members of the Performance Review Board (PRB) as required by 5 U.S.C. 4314(c)(4). William D. Spencer, currently a member of the PRB, will serve as Chairman of the PRB. James M. Eisenmann will serve as a new member of the PRB, and William L. Boulden will continue to serve as a member of the PRB. Gail T. Lovelace of the General Services Administration will continue to serve as an advisory member of the PRB.

Dated: March 14, 2011.
William D. Spencer,
Clerk of the Board.

[FR Doc. 2011-6239 Filed 3-16-11; 8:45 am]

BILLING CODE 7400-01-P